DEPARTMENT OF HEALTH AND HUMAN SERVICES

Food and Drug Administration

[Docket No. 2003N-0425]

Agency Information Collection Activities; Submission for Office of Management and Budget Review; Comment Request; Substances Prohibited From Use in Animal Food or Feed; Animal Proteins Prohibited in Ruminant Feed; Correction

AGENCY: Food and Drug Administration, HHS.

ACTION: Notice; correction.

SUMMARY: The Food and Drug Administration is correcting a notice that appeared in the Federal Register of January 16, 2004 (69 FR 2602). The document announced the proposed collection of information for substances prohibited from use in animal food or feed; animal proteins prohibited in ruminant feed that had been submitted to the Office of Management and Budget for review and clearance under the Paperwork Reduction Act of 1995. The document was published with the incorrect docket number. This document corrects that error.

FOR FURTHER INFORMATION CONTACT: Joyce Strong, Office of Policy (HF-27), Food and Drug Administration, 5600 Fishers Lane, Rockville, MD 20857, 301-827-7010.

SUPPLEMENTARY INFORMATION: In FR Doc. 04-1062, appearing on page 2602 in the Federal Register of Friday, January 16, 2004, the following correction is made:

1. On page 2602, in the first column, in the heading of the document, “[Docket No. 2002N-0273]”, is corrected to read “[Docket No. 2003N-0425]”.

Dated: January 21, 2004.
Jeffrey Shuren,
Assistant Commissioner for Policy.

[FR Doc. E4-132 Filed 1-27-04; 8:45 am]

BILLING CODE 4160-01-S